FEDERAL COMMUNICATIONS COMMISSION

47 CFR Part 64

[CG Docket No. 02-278; Report No. 2962]

Petition for Reconsideration of Action in Rulemaking Proceeding

AGENCY: Federal Communications Commission.

ACTION: Petition for reconsideration.

SUMMARY: In this document, Petitions for Reconsideration (Petitions) have been filed in the Commission's Rulemaking proceeding by Kourtney Keough, President/CEO of Marketlink, Inc., on behalf of Marketlink, Inc., Michele A. Shuster, Esq. and Nicholas Whisler, Esq. for Mac Murray, Petersen & Shuster LLP, on behalf of Professional Association for Customer Engagement, and Anthony S. Mendoza, Esq. on behalf of SatCom Marketing, LLC.

DATES: Oppositions to the Petitions must be filed on or before October 18, 2012. Replies to an opposition must be filed on or before October 29, 2012.

DATES: Federal Communications Commission, 445 12th Street SW., Washington, DC 20554.

FOR FURTHER INFORMATION CONTACT: Karen F. Johnson, Consumer and Governmental Affairs Bureau, Consumer Policy Division, at (202) 418-7706 (voice), or email Karen.Johnson@fcc.gov.

SUPPLEMENTARY INFORMATION: This is a summary of Commission's document, Report No. 2962, released September 24, 2012. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Marketlink, Inc.'s Petition for Reconsideration and Amendment; Rules and Regulations Implementing the Telephone Consumer Protection Act of 1991, Professional Association for Customer Engagement's Petition for Reconsideration; and Rules and Regulations Implementing the Telephone Consumer Protection Act of 1991, Petition for Reconsideration of SatCom Marketing LLC, Report and Order, published at 77 FR 34233, June 11, 2012, in CG Docket No. 02-278 and published pursuant to 47 CFR 1.429(e) of the Commission's rules. See also 47 CFR 1.4(b)(1) of the Commission's rules.

Number of Petitions Filed: 3.

Federal Communications Commission.
Bulah P. Wheeler,
Associate Secretary, Office of the Secretary, Office of Managing Director.

[FR Doc. 2012-24406 Filed 10-2-12; 8:45 am]

BILLING CODE 6712-01-P